DEPARTMENT OF ENERGY

Office of Energy Efficiency and Renewable Energy

10 CFR Part 431

[Docket No. EE-RM/TP-99-460]

RIN 1904-AA97

Energy Efficiency Program for Certain Commercial and Industrial Equipment: Test Procedures and Efficiency Standards for Commercial Air Conditioners and Heat Pumps

Correction

In proposed rule document 00-19723 beginning on page 48828 in the issue of Wednesday, August 9, 2000, make the following correction:

§431.271 [Corrected]

On page 48837 and 48838, in §431.271, Tables 1 and 2 should read as follows:

TABLE 1.—Minimum Cooling Efficiency Levels
Product | Category | Cooling capacity | Subcategory | Efficiency Level ¹
Small Commercial Packaged Air Conditioning and Heating Equipment | Air Cooled, 3 Phase | <65,000 Btu/h | Split System Single Package | SEER = 10.0 SEER = 9.7
| Air Cooled | ≥65,000 Btu/h and <135,000 Btu/h | All | EER = 8.9
| Water Cooled Evaporatively Cooled, and Water-Source | <65,000 Btu/h ≥65,000 Btu/h and <135,000 Btu/h | All All | EER = 9.3 EER = 10.5
Large Commercial Packaged Air Conditioning and Heating Equipment | Air Cooled | ≥135,000 Btu/h and <240,000 Btu/h | All | EER = 8.5
| Water-Cooled, and Evaporatively Cooled | ≥135,000 Btu/h and <240,000 Btu/h | All | EER = 9.6
Packaged Terminal Air Conditioners and Heat Pumps | All | <7,000 Btu/h ≥7,000 Btu/h and ≤15,000 Btu/h >15,000 Btu/h | All | EER = 8.88 EER = 10.0−(0.16 × capacity [in thousands of Btu/h at 95° outdoor dry-bulb temperature]) EER = 7.6
¹ All EER values must be rated at 95°F outdoor dry-bulb temperature for air-cooled products and evaporatively-cooled products and at 85°F entering water temperature for water-source and water-cooled products.

TABLE 2.—MINIMUM HEATING EFFICIENCY LEVELS
Product | Category | Cooling capacity | Subcategory | Efficiency Level ²
Small Commercial Packaged Air Conditioning and Heating Equipment | Air Cooled, 3 Phase | <65,000 Btu/h | Split System Single Package | HSPF = 6.8 HSPF = 6.6
| Water-Source | <135,000 Btu/h | Split System and Single Package | COP = 3.8
| Air Cooled | ≥65,000 Btu/h and <135,000 Btu/h | All | COP = 3.0
Large Commercial Packaged Air Conditioning and Heating Equipment | Air Cooled | ≥135,000 Btu/h and <240,000 Btu/h | Split System and Single Package | COP = 2.9
Packaged Terminal Heat Pumps | All | All | All | COP = 1.3+(0.16 × the applicable minimum cooling EER prescribed in Table 1—Minimum Cooling Efficiency Levels)
² All COP values must be rated at 47°F outdoor dry-bulb temperature for air-cooled products and evaporatively-cooled products and at 70°F entering water temperature for water-source products.

[FR Doc. C0-19723 Filed 10-23-00; 8:45 am]

BILLING CODE 1505-01-D

ENVIRONMENTAL PROTECTION AGENCY

40 CFR Part 52

[NC-087-9939; FRL-6881-1]

Approval and Promulgation of State Plans—North Carolina: Approval of Revisions to the North Carolina State Implementation Plan; Technical Correction

Correction

In rule document 00-25599 beginning on page 60101 in the issue of Tuesday, October 10, 2000, make the following corrections:

§52.1770 [Corrected]

1. On page 60102, in §52.1770 (c), in the table, in the section “Subchapter 2D—Air Pollution Control Requirements”, in the first line, the column for “State effective date” should read “1/15/98” and the column for “EPA approval date” should read “11/10/99”.

2. On page 60103, in the same section of the table, in the last line, in the column for “State effective date”, “Annual Emissions Reporting” should read “1/15/98”. The column for “EPA approval date” should read “11/10/99” and the column for “Comments” should read “*”.

[FR Doc. C0-25599 Filed 10-23-00; 8:45 am]

BILLING CODE 1505-01-D

DEPARTMENT OF THE INTERIOR

Bureau of Land Management

[NM-930-1430-ET; NMNM 52408, NMNM 52409, NMNM 52410]

Public Land Order No. 7462; Revocation of Three Secretarial Orders Dated May 1, 1929, April 27, 1939, and May 24, 1939; New Mexico

Correction

In notice document 00-25579 beginning on page 59463, in the issue of Thursday, October 5, 2000, make the following correction:

On page 59463, in the third column, in the seventh line from the bottom, “ Sec. 3, SE ¼NW ½” should read “ Sec. 3, SE ¼NW ¼”.

[FR Doc. C0-25579 Filed 10-23-00; 8:45 am]

BILLING CODE 1505-01-D